DEPARTMENT OF THE INTERIOR

National Park Service

[NPS-WASO-NAGPRA-NPS0033315; PPWOCRADN0-PCU00RP14.R50000]

Notice of Inventory Completion: Peabody Museum of Archaeology and Ethnology, Harvard University, Cambridge, MA

AGENCY: National Park Service, Interior.

ACTION: Notice.

SUMMARY: The Peabody Museum of Archaeology and Ethnology, Harvard University has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Peabody Museum of Archaeology and Ethnology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Peabody Museum of Archaeology and Ethnology at the address in this notice by February 28, 2022.

FOR FURTHER INFORMATION CONTACT: Patricia Capone, Curator and NAGPRA Director, Peabody Museum of Archaeology and Ethnology, 11 Divinity Avenue, Cambridge, MA 02138, telephone (617) 496-3702, email pcapone@fas.harvard.edu.

SUPPLEMENTARY INFORMATION: Notice is here given in accordance with the Native American Graves Protection and Repatriation Act (NAGPRA), 25 U.S.C. 3003, of the completion of an inventory of human remains under the control of the Peabody Museum of Archaeology and Ethnology, Harvard University, Cambridge, MA. The human remains were removed from the Green Farm site, Jefferson County, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Peabody Museum of Archaeology and Ethnology professional staff in consultation with representatives of the Oneida Indian Nation [previously listed as Oneida Nation of New York] and the Onondaga Nation. The Oneida Nation [previously listed as Oneida Tribe of Indians of Wisconsin] was invited to consult but did not respond to repeated invitations. Hereafter, the Indian Tribes listed in this section are referred to as “The Consulted and Invited Tribes.”

History and Description of the Remains

In July of 1906, human remains representing, at minimum, one individual were removed from the Green Farm site in Jefferson County, NY, by Irwin Hayden and Mark Raymond Harrington as part of a Peabody Museum Expedition. The fragmentary postcranial remains belong to an adult of indeterminate sex and age. No known individual was identified. No associated funerary objects are present.

Museum documentation indicates that the Green Farm site is in the town of Adams Center, Jefferson County, NY, and is approximately two miles southwest of the Heath Farm site. Interments from the Green Farm site most likely date to the Late Woodland period (A.D. 1000-1600). Museum documentary and archeological evidence, which includes a ceramic pipe fragment and ceramic vessels with globular bodies, constricted, zoned-incised necks, and castellated rims recovered from the Green Farm site (but not associated with the burial) supports a Late Woodland period date for the interment.

In the Late Woodland period, Jefferson County, NY, was occupied by the so-called “Jefferson County Iroquois” in several distinct settlement clusters. The Green Farm site is considered part of the Dry Hill settlement cluster and is situated on a “rounded hilltop near a brook,” consistent with settlement patterns associated with the Jefferson County Iroquois. Ceramic types and decorations present at the site are also consistent with those found at other Dry Hill cluster sites. The Jefferson County Iroquois left their territory during the 1500s and 1600s and joined other Iroquoian groups, most notably the Onondaga Nation. Based on the archeological materials from the Green Farm site, museum documentation, and consultation information presented by the Oneida Indian Nation and the Onondaga Nation, the preponderance of the evidence indicates a relationship of shared group identity between these human remains and the Onondaga Nation.

Determinations Made by the Peabody Museum of Archaeology and Ethnology, Harvard University

Officials of Peabody Museum of Archaeology and Ethnology, Harvard University have determined that:

• Pursuant to 25 U.S.C. 3001(9), the human remains described in this notice represent the physical remains of one individual of Native American ancestry.

• Pursuant to 25 U.S.C. 3001(2), there is a relationship of shared group identity that can be reasonably traced between the Native American human remains and the Onondaga Nation.

Additional Requestors and Disposition

Lineal descendants or representatives of any Indian Tribe or Native Hawaiian organization not identified in this notice that wish to request transfer of control of these human remains should submit a written request with information in support of the request to Patricia Capone, Curator and NAGPRA Director, Peabody Museum of Archaeology and Ethnology, 11 Divinity Avenue, Cambridge, MA 02138, telephone (617) 496-3702, email pcapone@fas.harvard.edu, by February 28, 2022. After that date, if no additional requestors have come forward, transfer of control of the human remains to the Onondaga Nation may proceed.

The Peabody Museum of Archaeology and Ethnology, Harvard University is responsible for notifying The Consulted and Invited Tribes that this notice has been published.

Dated: January 19, 2022.
Melanie O'Brien,
Manager, National NAGPRA Program.

[FR Doc. 2022-01650 Filed 1-26-22; 8:45 am]

BILLING CODE 4312-52-P